DEPARTMENT OF DEFENSE

Office of the Secretary

[Docket ID DOD-2019-OS-0128]

Science and Technology Reinvention Laboratory (STRL) Personnel Management Demonstration Project in the Joint Warfare Analysis Center (JWAC) of the United States Strategic Command (USSTRATCOM)

AGENCY: Under Secretary of Defense for Research and Engineering (USD (R&E)), Department of Defense (DoD).

ACTION: Notice of proposal to adopt and modify an existing personnel management demonstration project.

SUMMARY: This Federal Register Notice (FRN) serves as notice of the proposed adoption of an existing STRL Personnel Demonstration Project by the Joint Warfare Analysis Center (JWAC), United States Strategic Command (USSTRATCOM). JWAC proposes to adopt, with some modifications, the STRL Personnel Demonstration Project implemented at the Air Force Research Laboratory (AFRL).

DATES: The JWAC demonstration project (JWAC-DP) proposal may not be implemented until a 30-day comment period is provided, comments addressed, and a final FRN published. To be considered, written comments must be submitted on or before December 23, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT:

• Joint Warfare Analysis Center (JWAC): Ms. Amy Balmaz, Director, Human Resources, 4048 Higley Road, Dahlgren, VA 22448, (540) 653-8598, amy.t.balmaz.civ@mail.mil.

• DoD: Dr. Jagadeesh Pamulapati, Director, Laboratories and Personnel Office, 4800 Mark Center Drive, Alexandria, VA 22350, (571) 372-6372, jagadeesh.pamulapati.civ@mail.mil.

SUPPLEMENTARY INFORMATION: Section 342(b) of the National Defense Authorization Act (NDAA) for Fiscal Year (FY) 1995, Public Law (Pub. L.) 103-337; as amended, authorizes the Secretary of Defense (SECDEF), through the USD (R&E), to conduct personnel demonstration projects at DoD laboratories designated as STRLs.

1. Background

Many studies conducted since 1966 on the quality of the laboratories and personnel have recommended improvements in civilian personnel policy, organization, and management. Pursuant to the authority provided in section 342(b) of Pub. L. 103-337, as amended, a number of DoD STRL personnel demonstration projects have been approved. The demonstration projects are “generally similar in nature” to the Department of Navy's China Lake Personnel Demonstration Project. The terminology, “generally similar in nature,” does not imply an emulation of various features, but rather implies a similar opportunity and authority to develop personnel flexibilities that significantly increase the decision authority of laboratory commanders and/or directors.

2. Overview

JWAC will adopt, with some modifications, the STRL personnel demonstration project published in 75 FR 53076, August 30, 2010, and implemented in the AFRL. Section 1105(b) of the FY 2010 NDAA, as amended by section 1104 of the FY 2018 NDAA, Pub. L. 115-91 authorizes JWAC in the USSTRACOM to implement an STRL personnel demonstration project.

Adoption of the AFRL's personnel demonstration project, with modifications, will enable JWAC to achieve the best workforce for its mission, adjust the workforce for change, improve workforce quality, and allow JWAC to acquire and retain an enthusiastic, innovative, and highly educated and trained workforce, particularly scientific and engineering professionals. Implementation of the JWAC-DP is essential for competitive hiring and retention of a highly qualified workforce.

3. Access to Flexibilities of Other STRLs

Flexibilities published in this FRN will be available for use by the STRLs enumerated in section 1105 of the NDAA for FY 2010, Pub. L. 111-84 as amended, if they wish to adopt them in accordance with DoD Instruction 1400.37 (and its successor instructions) and after the fulfillment of any collective bargaining obligations.

Table of Contents

I. Executive Summary

II. Introduction

A. Purpose

B. Problems With the Present System

C. Expected Benefits

D. Participating Employees

E. Project Design

F. Personnel Policy Board

III. Personnel System Changes

A. Hiring and Appointment Authorities

B. Pay Setting

C. Broadbanding

D. Classification

E. Contribution-Based Compensation System

F. Dealing With Inadequate Contributions

G. Voluntary Emeritus Corps

H. Employee Development

IV. JWAC-DP Training

V. Conversion

A. Conversion to the Demonstration Project

B. Conversion to Another Personnel System

VI. Project Duration and Changes

VII. Evaluation Plan

A. Overview

B. Evaluation Model

C. Method of Data Collection

VII. Demonstration Project Costs

IX. Required Waivers to Law and Regulation

A. Title 5, United States Code

B. Title 5, Code of Federal Regulations

Appendix A: Career Path Occupational Series

Appendix B: Example of Factors and Descriptors, Scientists and Engineer Career Path, Pay Plan DR

I. Executive Summary

JWAC is a global warfighting organization and a subordinate organization of the USSTRATCOM. JWAC provides targeting analysis to combatant commands, Joint Staff, and other customers including effects-based, precision targeting options for selected networks and nodes in order to carry out the national security and military strategies of the U.S. during peace, crisis, and war. In order to enable military forces to rapidly achieve U.S. national security objectives, JWAC relies on the analysis of a variety of engineering, scientific, intelligence, and social science disciplines. The analytical and research teams apply social and physical science techniques and engineering expertise to provide quick-turn-around solutions to support the warfighter. Further, JWAC conducts research and development of new methodologies and technologies to advance technical analysis of critical networks and provide more targeting options against emerging threats.

JWAC must be able to acquire and retain an enthusiastic, innovative, and highly educated and trained workforce, particularly scientists and engineers, and must have in place a system that fosters their development, enhances their contribution and experience, and provides a strong retention incentive.

II. Introduction

A. Purpose

The purpose of JWAC-DP is to demonstrate that the effectiveness of DoD laboratories can be enhanced by allowing greater managerial control over personnel functions and, at the same time, expanding the opportunities available to employees through a more responsive and flexible personnel system. JWAC-DP will provide managers, at the lowest practical level, the authority, control, and flexibility needed to achieve a quality laboratory and quality products.

B. Problems With the Present System

1. JWAC has a proven history of providing the warfighter with targeting recommendations that break free from attrition warfare and focus on striking the enemy at the point that produces the greatest advantage for friendly forces. It has the ability to provide recommendations that can prevent war and, if necessary, help our nation win in time of conflict. To achieve its mission, JWAC must acquire and retain an enthusiastic, innovative, and highly educated and trained workforce, particularly scientific and engineering professionals.

2. The Civil Service General Schedule (GS) personnel system has several major inefficiencies that hinder management's ability to recruit and retain the best-qualified personnel. Line managers have only limited authority to manage personnel resources, and existing personnel regulations are often in conflict with management's ability to support JWAC's mission. Current personnel action processes and procedures cause delays in recruiting, reassigning, promoting, and removing employees.

3. The GS classification system rigidly defines types of work by occupational series and grade, with very precise qualifications for each job which are then classified by complex classification standards, causing lengthy hiring delays, and limiting the manager's ability to offer competitive compensation. This system does not easily or quickly respond to changes in the work based on mission requirements. One of the JWAC-DP's goals is to support simplified classification processes that can be accomplished quickly and efficiently at the lowest level of management.

4. JWAC must be able to compete with the private sector and other government agencies for the best talent and be able to make job offers in a timely manner with the appropriate monetary compensation and incentives to attract high quality employees. JWAC must successfully compete for high quality scientists and engineers locally with Naval Surface Warfare Center (NSWC) Dahlgren Division, an established STRL, and the public and private sector across the National Capital Region. Today, other STRLs can make an employment offer, at a much higher salary, to a promising candidate before JWAC can prepare the paperwork necessary to begin the recruitment process.

C. Expected Benefits

1. This project is expected to demonstrate that a human resources system tailored to the mission and needs of JWAC will result in:

a. Increased quality in the total workforce and the products they produce;

b. increased timeliness of key personnel processes;

c. increased retention of high contributing employees;

d. increased employee satisfaction with the laboratory; and

e. improved procedures for effectively and efficiently dealing with poor contributors.

2. The JWAC-DP builds on the successful features of existing demonstration projects, including the AFRL's. For the JWAC-DP to achieve the same results it must enable and enhance:

a. The ability to attract highly qualified scientific, technical, business, and support employees in today's competitive environment;

b. the ability to select personnel and make job offers in a timely and efficient manner, with the competitive compensation that attracts high-quality, in-demand employees;

c. employee satisfaction with pay setting and adjustment, recognition, and career advancement opportunities;

d. human resources (HR) flexibilities needed to staff, shape, and adjust to evolving requirements associated with sustaining a quality workforce for the future; and

e. retention of high-level contributors.

3. To effectively meet the above expectations, the JWAC-DP has identified and established in this notice those features and flexibilities that provide the mechanisms to achieve its objectives. Those features and flexibilities alone, however, will not ensure success. The nature of the JWAC-DP and its ambitious workforce goals will require HR support at an enhanced level. A traditional process-oriented and reactive construct will serve neither the mission nor the management needs of the organization. The JWAC-DP's emphases include its streamlined hiring, a sophisticated contribution-based compensation system, talent acquisition/retention, and professional human capital planning and execution. Accordingly, successful execution of that vision includes an HR service delivery model that is highly proactive, expertly skilled in analytical tools, and fully capable of engaging as a strategic partner and trusted agent of a modern multi-faceted organization.

D. Participating Employees

1. The JWAC-DP will cover civilian appropriated fund employees in the competitive and excepted service, unless otherwise excluded. Personnel added to the laboratory after implementation either through appointment, conversion, promotion, reassignment, change to a lower grade, or where their functions and positions have been transferred into the laboratory will be converted to the demonstration project.

2. Senior Executive Service (SES) members, Defense Civilian Intelligence Personnel System (DCIPS, pay plan GG) positons, and Department of Air Force (DAF) centrally funded interns and recent graduates appointed under the Pathways Program are not covered in the demonstration project.

3. DAF centrally funded interns and recent graduates will convert to the JWAC-DP once they have successfully completed a formal development program and converted to a competitive position in JWAC. Performance appraisals will be conducted using the Defense Performance Management and Appraisal (DPMAP) until they are converted to the JWAC-DP.

E. Project Design

The JWAC-DP was designed and led by a cross-functional team comprised of the Director or Deputy Director and other senior leaders representing each JWAC directorate. The design team was augmented and supported by volunteers from across JWAC to support the iterative development, assessment and evaluation of all of the elements of the JWAC-DP design. The team composition represented all career fields and utilized their vast experience in the current systems and authorities as well as previous DoD personnel management systems. The design team reviewed and considered all existing STRL designs through detailed reviews of the published FRNs, exchanges with other STRL program managers, and organizational site visits to leverage the experience and lessons-learned of existing, mature STRL designs. The JWAC design team relied heavily on subject-matter-expertise that has been supporting the AFRL demonstration project's design and revisions, as well as demonstration projects that have been utilized at other STRLs, some for over 20 years. The JWAC-DP design is grounded in the AFRL demonstration project's design, and takes advantage of authorities and design elements from other DoD laboratories and personnel systems applicable to JWAC. The JWAC-DP design team utilized an iterative approach of reviews and a series of mock activities to develop, test, and exercise the JWAC-DP design proposal, including a JWAC-wide workforce critique of the draft FRN. The design is focused on recruiting and hiring authorities and flexibility as well as a contribution-based compensation system. This FRN adopts hiring authorities currently utilized by other DoD STRL Personnel Demonstration Projects.

F. Personnel Policy Board

JWAC has created a Personnel Policy Board (PPB) to oversee and monitor the fair, equitable, and consistent implementation of the provisions of the demonstration project to include establishing internal controls and accountability. The PPB Chairperson and members of the board are senior JWAC managers appointed by the JWAC Commander and documented in internal operating procedures (IOPs). The PPB Chairperson serves as the pay pool manager and must report directly to the JWAC Commander. Ad hoc members can be assigned at the discretion of the JWAC Commander to provide subject matter expertise or to advise the PPB. The establishment of this Board shall not affect the authority of any management official in the exercise of their management rights set forth in 5 U.S.C. 7106(b)(1). The PPB is tasked with the following:

1. Formulating and managing the civilian pay pool budget;

2. Determining the composition of the pay pool in accordance with the guidelines of this proposal and internal procedures;

3. Reviewing operation of JWAC's pay pool process;

4. Providing guidance to the pay pool process;

5. Reviewing seamless broadband level movements;

6. Reviewing Accelerated Compensation for Developmental Position (ACDP) increases;

7. Monitoring award pool distribution by organization or any other special categorization;

8. Assessing the need for and making changes to the JWAC-DP policies when needed to further define specific flexibilities to ensure standard application across the organizational units;

9. Ensuring all budget decisions are in alignment with funding sponsor's fiscal guidelines and boundaries; and

10. Ensuring that all employees are treated in a fair and equitable manner in accordance with all policies, regulations, and guidelines covering this demonstration project.

III. Personnel System Changes

A. Hiring and Appointment Authorities

1. Description of Hiring Process:

JWAC is implementing a streamlined examining process as demonstrated in other STRLs. This applies to all covered positions in JWAC, with the exception of Senior Executive Service (SES) and DAF centrally funded interns and students. This process includes coordination of recruitment and public notices, the administration of the examining process, the certification of candidates, and selection and appointment consistent with merit system principles, to include existing authorities under 5 U.S.C. and 5 CFR. The “rule of three” is eliminated, similar to the authorities granted to AFRL in 75 FR 53076, August 30, 2010. When there are no more than 15 qualified applicants and no preference eligible applicants, all qualified applicants are immediately referred to the selecting official without rating and ranking. Rating and ranking are required only when the number of qualified candidates exceeds 15 or there is a mix of preference eligible and non-preference eligible applicants. Statutes and regulations covering veterans' preference are observed in the selection process and when rating and ranking are required.

The JWAC Commander is delegated authority, with respect to a JWAC employee, to administer the oath of office required by 5 U.S.C. 3331, incident to entrance into the executive branch or any other oath required by law in connection with employment in the executive branch.

2. Direct Hiring Authorities:

The JWAC-DP will use the direct-hire authorities authorized by section 1108 of the NDAA for FY 2009 as amended by section 1103 of the NDAA FY 2012 and in 10 U.S.C. 2358a to non-competitively appoint the following:

a. Candidates with advanced degrees to scientific and engineering positions;

b. Candidates with bachelor's degrees to scientific and engineering positions;

c. Veteran candidates to scientific, technical, engineering, and mathematics positions (STEM), including technicians; and

d. Student candidates enrolled in a program of instruction leading to a bachelors or advanced degree in a STEM discipline.

3. Distinguished Scholastic Achievement Authority (DSAA): The JWAC-DP will use the Distinguished Scholastic Achievement Authority (DSAA) to non-competitively appoint candidates possessing a bachelor's degree or higher to Science and Engineering positions, Business Management and Professional positions or Technician positions, up to the equivalent of GS-12 (DR-II or DO-II). Candidates may be appointed using this authority provided all of the following conditions are met: the candidate meets the minimum standards for the position as published in OPM's operating manual, “Qualification Standards for General Schedule Positions,” plus any selective factors stated in the vacancy announcement; the occupation has a positive education requirement; and the candidate has a cumulative grade point average of 3.5 or better (on a 4.0 scale) in those courses in those fields of study that are specified in the Qualifications Standards for the occupational series.

Veterans' preference procedures will apply when selecting candidates under this authority. Preference eligible candidates who meet the above criteria will be considered ahead of non-preference eligible candidates. In making selections, to pass over any preference eligible candidate(s) to select a non-preference eligible candidate requires approval under applicable DA pass-over or objection procedures. Distinguished Scholastic Achievement Appointments will enable JWAC to respond quickly to hiring needs for eminently qualified candidates possessing distinguished scholastic achievements.

4. Flexible Length and Renewable Term Technical Appointments (Flexible Term Appointment): Non-permanent positions (exceeding one year) needed to meet fluctuating or uncertain workload requirements may be competitively filled using the Flexible Length and Renewable Term Technical Appointment Authority, authorized in section 1109 of NDAA FY16, Section 1109, as amended by section 1112 of NDAA FY19 and described 82 FR 43339, 43340, or the Contingent Employee Appointment Authority authorized in 62 FR 34876, 34899.

Employees hired for more than one year, under the Contingent Employee Appointment Authority (CEAA), are given modified term appointments in the competitive service for up to five years. The JWAC Commander is authorized to extend a contingent appointment for up to one additional year.

Using the Flexible Length and Renewable Term Technical Appointment Authority (FLRTTA), a modified term scientific or technical position may be filled for any period of more than one year but not more than six years, and may be extended in up to six year increments at any time.

Employees hired under these appointment authorities may be eligible for conversion to career appointments. To be converted from CEAA or FLRTTA, the employee must (a) have been selected for the term position under an announcement or public notice specifically stating that the individual(s) selected for the term position(s) may be eligible for conversion to career-conditional appointment at a later date without further competition; (b) served two years of substantially continuous service in a term position; and (c) have a current rating of acceptable or better.

Employees serving under term appointments at the time of conversion to the STRL Demonstration Project will be converted to new term contingent employee appointments. Time served in term positions prior to conversion to the contingent employee appointment is creditable to the requirement for two years of continuous service stated above, provided the service was continuous.

5. Reemployed Annuitants and Voluntary Early Retirement Authority and Voluntary Separation Incentive Payment: The JWAC Commander may appoint reemployed annuitants and/or offer Voluntary Early Retirement Authority (VERA)/Voluntary Separation Incentive Payment (VSIP) packages as described in 82 FR 43339, September 15, 2017, to shape the mix of technical skills and expertise in the workforce.

6. Probationary Period. The probationary period will be three years for all newly hired employees, including individuals entering the JWAC-DP after a break in service of 30 calendar days or more. Employees who enter the JWAC-DP with a break in service of less than 30 calendar days are not required to complete an extended probationary period if their previous service was in the same line of work as determined by the employee's actual duties and responsibilities upon reappointment. Current permanent Federal employees hired into the JWAC-DP are not required to serve a new probationary period. Any employee appointed prior to the date of this FRN will not be affected.

Employees on non-status appointments (appointments that are time-limited or nonpermanent and from which employees do not acquire competitive status) will be subject to the probationary period required by their appointing authority. Upon conversion from a non-status appointment to a competitive service appointment, employees will be required to serve a three-year probationary period. However, employees serving on a Flexible Length and Renewable Term Technical Appointment will serve a three-year trial period (in accordance with (IAW) 5 CFR 316.304 except that rather than a one-year trial period, it is a three-year trial period). Upon conversion to competitive service, any periods of employment served during a non-status appointment or a flexible term appointment will be counted toward the completion of the extended probationary period.

All other features of the current probationary period are retained, including the potential to remove an employee without providing the full substantive and procedural rights afforded a non-probationary employee. Probationary employees will be terminated if an employee fails to demonstrate proper conduct, technical competency, and/or adequate contribution for continued employment. When the JWAC Commander or designee decides to terminate an employee serving a probationary period because his/her work performance or conduct during this period fails to demonstrate fitness or qualifications for continued employment, the employee will be provided written notification of the reasons for separation and the effective date of the action. The information in the notice as to why the employee is being terminated will, as a minimum, consist of the manager's conclusions as to the inadequacies of their performance or conduct.

Supervisory probationary periods will be made consistent with 5 CFR 315.901. Employees that have successfully completed the initial probationary period will be required to complete an additional one year probationary period for the initial appointment to a supervisory position. If, during the supervisory probationary period, the decision is made to return the employee to a nonsupervisory position for reasons solely related to supervisory performance, the employee will be returned to a comparable position of no lower payband and pay than the position from which promoted.

7. Qualification Determinations: A candidate's basic eligibility will be determined using OPM's “Qualification Standards Handbook for General Schedule Positions.” Selective placement factors may be established in accordance with OPM's Qualification Handbook when determined to be critical to successful position contribution. These factors are communicated to all candidates for particular position vacancies and must be met for basic eligibility.

a. Science and Engineering (S&E) (Pay Plan DR) Career Path: This career path includes technical professional positions, such as engineers, physicists, chemists, metallurgists, mathematicians, operations research analysts, and computer scientists. Additional occupational series may be added in the future. Employees in these positions require specific course work or educational degrees. Five broadband levels have been established for the S&E career path:

• Band level I minimum eligibility requirements are consistent with the GS-07 qualifications.

• Band level II minimum eligibility requirements are consistent with the GS-12 qualifications.

• Band level III minimum eligibility requirements are consistent with the GS-14 qualifications.

• Band level IV minimum eligibility requirements are consistent with the GS-15 qualifications.

• Band level V minimum eligibility requirements are above the GS-15 qualifications. This band is limited to senior scientific technical manager (SSTM) positions, the primary functions of which are to engage in research and development in the physical, biological, medical or engineering sciences or another field closely related to the mission of the JWAC; and to carry out technical supervisory responsibilities. The number of such positions shall not exceed two percent of the number of scientists and engineers employed at JWAC.

b. Business Management and Professional (Pay Plan DO) Career Path: This career path supports the S&E mission, and includes specialized positions such as finance, acquisition, human resources, IT services, and administrative specialists. Employees may or may not be required to have specific course work or degrees to qualify for these positions. Four broadband levels have been established for the Business Management and Professional career path:

• Band level I minimum eligibility requirements are consistent with the GS-07 qualifications.

• Band level II minimum eligibility requirements are consistent with the GS-12 qualifications.

• Band level III minimum eligibility requirements are consistent with the GS-14 qualifications.

• Band level IV minimum eligibility requirements are consistent with the GS-15 qualifications.

c. Technician (Pay Plan DX) Career Path: This career path is associated with and supportive of a professional field and may involve substantial elements of the work of the professional field, but requires less than full knowledge of the field involved. It includes positions such as Engineering Technician and Electronics Technician. Employees in these positions may or may not require specific course work or educational degrees. Four broadband levels have been established for the Technician career path:

• Band level I minimum eligibility requirements are consistent with the GS-01 qualifications.

• Band level II minimum eligibility requirements are consistent with the GS-05 qualifications.

• Band level III minimum eligibility requirements are consistent with the GS-08 qualifications.

• Band level IV minimum eligibility requirements are consistent with the GS-11 qualifications.

d. Mission Support (Pay Plan DU) Career Path: This career path includes positions for which specific course work or educational degrees are not required. This career path includes clerical work, that usually involves the processing and maintaining of records, as well as assistant work, that requires knowledge of methods and procedures within a specific administrative area. Examples of positions within this career path include secretaries, office automation clerks, and budget/program/computer assistants.

• Band level I minimum eligibility requirements are consistent with the GS-01 qualifications.

• Band level II minimum eligibility requirements are consistent with the GS-05 qualifications.

• Band level III minimum eligibility requirements are consistent with the GS-07 qualifications.

• Band level IV minimum eligibility requirements are consistent with the GS-09 qualifications.

8. Temporary Promotions and Details: JWAC may detail its employees to higher broadband level positions and temporarily promote employees for up to one year within a 24-month period, with or without competition, and may extend such detail or promotion by one additional year, similar to the authority adopted by the AFRL in 75 FR 53076, August 30, 2010.

B. Pay Setting

1. Management has authority to establish appropriate basic pay for employees converting into or hired by the JWAC-DP. The basic pay of newly hired personnel will be at a level consistent with the expected contribution of the position. The expected contribution is based on the employee's academic qualifications, competencies, and experience, as well as the position's scope and level of difficulty. Except for Senior Scientific Technical Manager (SSTM) positions, basic pay is limited to an amount equal to GS-15, step 10 pay. A demo bonus (a lump sum payment made to an employee) may be provided to employees converting into or hired by the JWAC-DP. An employee's total monetary compensation paid in a calendar year may not exceed the basic rate of pay paid in level I of the Executive Schedule consistent with 5 U.S.C. 5307 and 5 CFR part 530, subpart B. Further details will be published in the IOP.

2. The JWAC Commander is authorized to approve retention, recruitment, and relocation incentives. Unless specifically amended by this notice, the eligibility and documentation requirements in 5 CFR part 575 remain in effect.

3. The JWAC Commander may offer a retention counteroffer to retain high performing employees with critical scientific or technical skills who present evidence of an alternative employment opportunity with higher compensation. Such employees may be provided increased base pay (up to the ceiling of the pay band) and/or a one-time cash payment that does not exceed 50 percent of one year of base pay. Retention counteroffers, either in the form of a base pay increase or a bonus, count toward the aggregate limitation on pay consistent with 5 U.S.C. 5307 and 5 CFR part 530, subpart B. Further details will be published in the IOP.

4. Student recruitment is currently limited to the local commuting area because college students often cannot afford to temporarily relocate to the Dahlgren area while enrolled at schools outside of the local commuting area. To expand recruitment to top universities, the authority in 5 CFR part 575 is expanded to allow management to pay a relocation incentive/bonus each time a student returns to duty to JWAC.

5. Accelerated Compensation for Developmental Positions (ACDP): The JWAC Commander may authorize an increase to basic pay for employees participating in training programs, internships, or other development capacities. ACDP will be used to recognize development of job related competencies as evidenced by successful contribution to the JWAC.

The use of ACDP is limited to employees in pay bands I and II in the Business Management and Professional and S&E career paths. Additional guidance will be published in an IOP.

6. Maintained Pay: The JWAC-DP will eliminate retained grade and retained pay and will adopt “maintained pay” provisions similar to those utilized in AFRL (75 FR 53076). An employee may be entitled to maintain the employee's current rate of basic pay if, as a result of personnel actions that would entitle the employee to grade or pay retention under Title 5, the employee is placed in a payband where the employee's current rate of basic pay exceeds the maximum rate of basic pay for the pay band. At the time of conversion, an employee on grade retention will be converted to the career path and broadband level based on the assigned permanent position of record, not the retained grade. An employee's adjusted pay will not be reduced upon conversion. Implementing instructions will be documented in IOPs.

C. Broadbanding

JWAC-DP will use a broadbanding approach to compensation and classification. A broadbanding structure will simplify the classification system, reduce the number of distinctions between levels of work, and facilitate delegation of classification authority and responsibility to line managers.

The broadbanding structure replaces the GS structure. Table 1 shows the four broadband levels in each career path, labeled I, II, III, IV, and the additional broadband level, labeled V, for SSTM positions in the S&E career path. The broadband levels are designed to enhance pay progression and to allow for more competitive recruitment of quality candidates at differing rates within the appropriate broadband level(s). Competitive promotions will be less frequent and movement through the broadband levels will be a more seamless process. Like the broadbanding system used at AFRL, advancement within each band is based upon contribution.

The four distinct career paths within JWAC-DP are: S&E, Business Management and Professional, Technician, and Mission Support.

1. S&E (Pay Plan DR):

• Band I includes the current GS-7 through GS-11;

• Band II includes the current GS-12 through GS-13;

• Band III includes the currentGS-14;

• Band IV includes the currentGS-15;

• Band V SSTM positions aboveGS-15.

2. Business Management and Professional (Pay Plan DO):

• Band I includes the current GS-7 through GS-11;

• Band II includes the current GS-12 through GS-13;

• Band III includes the currentGS-14;

• Band IV includes the currentGS-15.

3. Technician (Pay Plan DX):

• Band I includes the current GS-1 through GS-4;

• Band II includes the current GS-5 through GS-7;

• Band III includes the current GS-8 through GS-10;

• Band IV includes the current GS-11 through GS-12.

4. Mission Support (Pay Plan DU):

• Band I includes the current GS-1 through GS-4;

• Band II includes the current GS-5 through GS-6;

• Band III includes the current GS-7 through GS-8;

• Band IV includes the current GS-9 through GS-10.

Comparison to the GS grades was useful in setting the upper and lower dollar limits of the broadband system; however, once employees are converted or hired into the JWAC—DP, GS grades and steps no longer apply.

The JWAC-DP will use the authority in title 10 U.S.C. 2358a to expand the S&E career path to include a broadband level V. This broadband level is designed for SSTM positions, the primary functions of which are: (1) To engage in research and development in the physical, biological, medical, or engineering sciences, or another field closely related to the JWAC mission; and (2) to carry out technical supervisory responsibilities. The SSTM positions will be similar to those described in 79 FR 43722. Panels will be created to assist in filling SSTM positions. Panel makeup will be included in the IOPs. The panel will apply criteria developed largely from the current OPM Research Grade Evaluation Guide for positions exceeding the GS-15 level. Vacant SSTM positions will be competitively filled to ensure that selectees are preeminent researchers and technical leaders in the specialty fields who also possess substantial managerial and supervisory abilities.

Upon the implementation of the JWAC-DP, and periodically thereafter, the JWAC Commander will review organizational and mission requirements, and where appropriate, may modify the duties of existing SSTM positions and/or the total number of SSTM positions. Consistent with 10 U.S.C. 2358a, the total number of SSTM positions may not exceed two percent of the number of scientists and engineers employed at the JWAC as of the close of the last fiscal year before the fiscal year in which any additional appointments are made. The minimum basic pay for SSTM positions is 120 percent of the minimum rate of basic pay for GS-15. Maximum SSTM basic pay with locality pay is limited to Executive Level III (EX-III), and maximum salary without locality pay may not exceed EX-IV. The contribution management system used to evaluate an SSTM employee will be documented in the JWAC IOPs.

D. Classification

1. Statement of Duties and Experience (SDE)

Under the JWAC-DP's simplified classification system, the SDE replaces the DAF Form 1003 Air Force Core Personnel Document (CPD). The SDE includes a description of position-specific information; identifies the career path, occupational series and broadband level; includes the factors and descriptors for the assigned career path and broadband level; and provides data element information pertinent to the position.

2. Occupational Series

The present system of OPM classification standards is used for the identification of proper series and occupational titles of positions within the JWAC-DP. The OPM occupational series scheme, which frequently provides well-recognized disciplines with which employees are to be identified, is maintained and facilitates movement of personnel into and out of the JWAC-DP. Other series may be added as the need for new competencies emerges within the JWAC environment.

3. Classification Factors and Descriptors

Current OPM Position Classification Standards will not be used to grade positions in the JWAC-DP. JWAC's factors and descriptors will describe the level of work expected for each broadband level in each career path. The AFRL classification factors and descriptors published in 75 FR 5076, August 30, 2010, and OPM classification guidance will be used as a framework to develop JWAC specific factors and descriptors (see Appendix B). The JWAC-DP factors and descriptors will also be used for the annual Compensation-based Contribution System (CCS) employee assessments (Section III., E. 3). Factors and descriptors will be documented in JWAC IOPs.

4. Classification Authority

The JWAC Commander will have classification authority and may, in-turn, re-delegate this authority to appropriate levels. HR Specialists will provide ongoing consultation and guidance to managers and supervisors throughout the classification process. The final classification decision will be documented on the SDE.

5. Classification Process

The SDE is developed using the following process:

a. The supervisor identifies the organizational location, SDE number, and the employee's name. The supervisor selects the appropriate occupational series, pay plan, broadband level, and title; the level factor descriptors corresponding to the broadband level that is most commensurate with the level of contribution necessary to accomplish the duties and responsibilities of the position; and the Defense Civilian Personnel Data System (DCPDS) supervisory level. The classification system is not hierarchical, meaning that a supervisor's broadband level is based on the contributions he/she has made to the organization, and not based on the broadband level of subordinate employees, as is typical under other personnel systems. Therefore, supervisors may be at the same, lower, or higher broadband level than the employees they supervise.

b. The supervisor selects a brief description of the primary purpose of the position making sure the description is consistent with the series and title chosen for the position. The supervisor chooses statements pertaining to physical requirements; competencies required to perform the work; and special licenses or certifications needed. Based on the supervisory level of the position, the system produces mandatory statements pertaining to affirmative employment, safety, and security programs.

c. The supervisor selects other position data, such as position sensitivity and drug testing requirements. The supervisor also selects the Fair Labor Standards Act (FLSA) status. The FLSA status selection must be in accordance with OPM guidance and HR Specialists may advise management as necessary. The data elements are maintained as a separate page of the SDE (i.e., an addendum) and may be changed as needed, without creating and classifying a new SDE.

d. The supervisor makes a recommended classification, then signs and dates the document. The supervisor sends the SDE to the classification authority for classification. The classification is finalized when the classification official signs and dates the SDE. The SDE development process incorporates definitions for the CCS supervisory levels, and occupational series as appropriate.

E. Contribution-Based Compensation System (CCS)

1. Overview

The CCS is a contribution-based assessment system that goes beyond a performance-based rating system. The CCS measures the employee's contribution to the organization's mission, the contribution level, and how well the employee performed a job. Contribution is defined as the measure of the demonstrated value of what an employee did in terms of accomplishing or advancing the organizational objectives and mission impact. The purpose of the CCS is to provide an effective, efficient, and flexible method for assessing, compensating, and managing the JWAC workforce. It is essential for the development of a highly productive workforce and to provide management, at the lowest practical level, the authority, control, and flexibility needed to achieve a quality laboratory and quality products. The CCS allows for more employee involvement in the assessment process, increases communication between supervisors and employees, promotes a clear accountability of contribution, facilitates employee career progression, provides an understandable basis for basic pay changes, and delinks awards from the annual assessment process. The CCS process described herein applies to broadband levels I through IV. The assessment process for broadband level V positions will be documented in the JWAC IOPs.

2. Factors and Descriptors

Each factor (e.g., Communication, Technology/Business Management, Problem Solving, and Teamwork/Leadership) has descriptors that describe increasing levels of contribution corresponding to each broadband level. The same factors and descriptors will be used for classification and for the annual CCS employee assessments. The factors and descriptors for the appropriate career path will be used by the rating official to determine the employee's overall contribution score (OCS). Employees can score within, above, or below the range for their broadband level. For example, a broadband level II employee could score in the broadband level I, II, III, or IV range. Therefore, supervisors utilize all factors and descriptors to determine each employee's contribution assessment.

3. CCS Assessment Scoring

The annual CCS assessment scoring process begins with employee input, which provides employees with an opportunity to communicate their perceived accomplishments and level of contribution to their supervisors. An employee's basic pay determines an expected score when plotted on the appropriate career path Standard Pay Line (SPL) (discussed in section III.E.4).

Each career path has its own SPL based on the salary range established for that career path. Scores have a direct relationship with basic pay; therefore, the significance of an employee's actual score is not known until it is compared to his/her expected score. For instance, an employee in the Mission Support career path with a basic pay rate of $33,091 in 2018 would have an expected score of 2.25, while an employee in the Business Management and Professional career path with a basic pay rate of $74,705 would have the same expected score. The comparison between expected score and OCS provides an indication of equitable compensation, under-compensation, or overcompensation. (Typically, employees who are overcompensated are not meeting contribution expectations and may be placed on a Contribution Improvement Plan, described in further detail in section III.F.) Broadband levels in each career path have the same expected score range, as depicted in Table 2 below, which also includes the 2018 basic pay ranges for each broadband level. As the general basic pay rates increase annually, the minimum and maximum basic pay rates of each broadband level for each career path are adjusted accordingly. Individual employees receive basic pay increases and/or bonuses based on the annual assessments under the CCS. There are no changes to title 5, U.S.C., regarding locality pay under the JWAC-DP.

BILLING CODE 5001-06-P

4. Standard Pay Line (SPL)

A mathematical relationship between assessed contribution and basic pay will be used to create the SPLs for each career path used in the CCS, similar to the formulas adopted by AFRL in 75 FR 53076, dated August 30, 2010. The SPL is a straight line which yields a reasonable correlation between basic pay rates in the broadband levels and those of the corresponding GS grade(s); provides a single relationship (equation) for the entire range of pay and OCS; and demonstrates equitable (i.e., consistent) growth at each CCS score.

The JWAC equation for the 2018 S&E (DR) and the Business Management and Professional (DO) SPL is BASIC PAY = $21,011 + ($23,864 × CCS SCORE). Figure 1 provides a pictorial representation of the 2018 DR & DO SPL.

The JWAC equation for the 2018 Mission Support (DU) SPL is BASIC PAY = $7,353 + ($11,439 × CCS SCORE), and JWAC equation for the 2018 Technician (DX) SPL is BASIC PAY = $2,183 + ($16,611 × CCS SCORE); as shown in Figures 2 and 3. The equations for future JWAC SPLs may be modified consistent with this notice and the IOP.

BILLING CODE 5001-06-C

5. The CCS Assessment Process

The rating official is the first-level supervisor of record for at least 90 days during the rating cycle. If the current immediate supervisor has been in place for less than 90 days during the rating cycle, the next higher level supervisor in the employee's rating chain who has been in place for more than 90 days during the rating cycle conducts the assessment.

The annual assessment cycle begins on September 1 and ends on August 31 of the following year. At the beginning of the annual assessment period, the broadband level factors and descriptors are provided to employees setting forth the basis on which their contribution is assessed.

A midyear review, in the February to March timeframe, is conducted for employees. During this review the employee's professional qualities, competence, developmental needs, and mission contribution are discussed, as well as future development and career opportunities. Additionally, employees provide feedback to supervisors on their supervisory qualities and skills. To highlight its importance, all feedback sessions are certified as completed by the rating official conducting the feedback session. While one documented formal midyear feedback session is required, supervisors are encouraged to conduct informal feedback sessions throughout the rating period. The preferable method for all feedback sessions is face-to-face.

At the end of the annual assessment period, employees summarize their contributions in each factor for their rating official. Employees are highly encouraged to submit written self-assessments identified to management, to ensure that all of the employee's contributions accomplished during the rating cycle are taken into consideration. The rating official first determines preliminary CCS scores using the employee's input and the rating official's assessment of the employee's overall contribution to the laboratory mission, based on the appropriate broadband level factor descriptor. The preliminary score is determined by comparing an employee's contribution results to the descriptors for a particular factor and selecting the most appropriate general range (e.g., high, medium, or low).

The rating officials (e.g., branch chiefs) and the next level supervisors (e.g., the respective division chief) then meet as a group (e.g., first-level Meeting of Managers (MoM)) to review and discuss all proposed employee assessments and preliminary CCS factor scores. Giving authority to the group of managers to determine CCS factor scores ensures that contributions are assessed and measured similarly for all employees. During the MoMs, the preliminary factor scores are further refined into decimal scores. For example, if the employee's contribution level for a factor is at the lowest level of broadband level I, a factor score of 1.0 is assigned. Higher levels of contribution are assigned factor scores increasing in 0.1 increments up to 4.9. A factor score of 0.0 can be assigned if the employee does not demonstrate a minimum broadband level I contribution. Likewise, a factor score of 5.9 can be assigned if an employee demonstrates a contribution that exceeds the broadband level IV descriptor. Rating officials must document justification for each proposed factor score.

Factor scores are then averaged to give an overall CCS score (OCS). Each broadband level is defined for OCS from 0.75 to 5.25 as shown in Table 2. The maximum OCS for broadband level IV is set at 5.25, to be consistent with the maximum overall CCS scores for other broadband levels (4.25 for broadband level III, 3.25 for broadband level II, and 2.25 for broadband level I). Therefore, when the average of CCS factor scores exceeds 5.25, the overall CCS score is set to 5.25, and the employee who was scored above 5.25 will be identified to upper management as having exceeded the maximum contribution defined by the broadband. The maximum basic pay for each broadband is the basic pay corresponding with an X.25 OCS (i.e., 2.25, 3.25, 4.25, and 5.25). Once the scores have been finalized, the pay pool manager approves the scores for the entire pay pool. The pay pool manager has the ability to look across the entire pay pool and may address anomalies through the appropriate management chain.

If, on September 1, an employee has been covered by the CCS for less than 90 days, the rating official waits for the subsequent annual cycle to assess the employee. Such an employee is considered “presumptive due to time” and is assigned a score at the intersection of their basic pay and the SPL. Periods of approved, paid leave are counted toward this 90-day time period. When an employee cannot be evaluated readily by the normal CCS assessment process due to special circumstances that take the employee away from normal duties or duty station (e.g., long-term full-time training, extended sick leave, leave without pay, etc.), the rating official documents the rating as “presumptive due to circumstance” in the CCS software. The rating official then assesses the employee using one of the following options:

• Recertify the employee's last OCS; or

• Assign a score at the intersection of the employee's basic pay and the SPL.

Basic pay adjustments, i.e., decisions to give or withhold basic pay increases or bonuses, are based on the relationship between the employee's actual CCS score and the employee's current basic pay (as discussed in section III.E.5). Decisions for seamless broadband movement (discussed in section III.E.6.) are also based on this relationship. Final pay determinations and broadband level changes are made by the pay pool manager.

6. Pay Pools

The pay pool structure is under the authority of the JWAC Commander who, in-turn, may delegate this authority. The following guidelines apply to pay pools: (a) A pay pool is based on the JWAC organizational structure and should include a range of basic pay rates and broadband levels; (b) a pay pool must be large enough to constitute a reasonable statistical sample, i.e., 35 or more employees; (c) a pay pool must be large enough to encompass a second level of supervision since the CCS process uses a group of supervisors in the pay pool to determine assessments and recommend basic pay adjustments; (d) the pay pool manager holds annual pay adjustment authority; and (e) neither the pay pool manager nor the supervisors within the pay pool recommend or set their own individual pay.

The amount of money available for basic pay increases within a pay pool is determined by the amount of the general increase (“G”) authorized by law or the President for the GS under 5 U.S.C. 5303, and an incentive amount (“I”) drawn from money that, under the GS system, would be available for step increases and career ladder promotions. The incentive amount is set by the PPB each year and is adjustable to ensure cost discipline over the life of the JWAC-DP. The dollars derived from “G” and “I” percentages included in the pay pool are computed based on the basic pay of eligible employees in the pay pool as of August 31 of each year. The Under Secretary of Defense (Personnel & Readiness) may, at his/her discretion, adjust the minimum funding levels to take into account factors such as the Department's fiscal condition, guidance from the Office of Management and Budget, and equity in circumstances when funding is reduced or eliminated for GS pay raises or awards.

7. Basic Pay Adjustment Guidelines

The maximum basic pay for any employee is limited to GS-15, step 10, except for employees in SSTM positions. Any employee whose basic pay would exceed GS-15, step 10, based on his or her OCS, will be identified to upper management as having exceeded the maximum allowable basic pay and will be paid a bonus to cover any difference between the GS-15, step 10, basic pay and the basic pay associated with his or her OCS. There are no changes to 5 U.S.C., regarding locality pay under the JWAC-DP.

Employees' OCSs are determined by the CCS assessment process described in Section III.E.3. Employees' OCSs are plotted on the appropriate SPL graph based on their current basic pay as shown in Figure 5. The position of those points in relation to the SPL provides a relative measure (Delta Y) of the degree of over-compensation or under-compensation for each employee. This process permits all employees within a pay pool to be rank-ordered by Delta Y, from the most undercompensated employee to the most overcompensated.

In general, those employees who fall below the SPL (indicating under-compensation; for example, employee X in Figure 5) should expect to receive greater basic pay increases than those who fall above the line (indicating overcompensation; for example, employee Z in Figure 5). An OCS that falls on either rail is considered to be within the rails. Over time, employees will migrate closer to the SPL. The following provides more specific guidelines: (a) Employees who fall above the upper rail (for example, employee Z in Figure 5) are given an increase ranging from zero to a maximum of the dollar amount determined by the “G” percentage increase; (b) those who fall within the rails (for example, employee Y in Figure 5) are given a minimum of the dollar amount determined by the “G” percentage increase; and (c) those who fall below the lower rail (for example, employee X in Figure 5) are given at least their basic pay multiplied by “G” and “I” percentages. The pay pool manager may give a CCS bonus (a lump sum payment made to an employee in lieu of a basic pay increase as part of the CCS assessment process) to an employee as compensation, in whole or part. This may be appropriate in a situation when the employee's continued contribution at this level is uncertain. The CCS Bonus criteria will be documented in JWAC IOPs.

The pay pool manager sets the necessary guidelines for pay adjustments in the pay pool based on guidance from the PPB. Decisions will be consistent in the pay pool within these general rules: Final decisions are standard and consistent within the pay pool; are fair and equitable across the organization; and maintain cost discipline.

8. Broadband Level Movements

A key concept of the JWAC-DP is that career growth may be accomplished by seamless broadband movement, i.e., movement through the broadband levels within a particular career path by significantly increasing levels of employee contribution toward the JWAC mission. Seamless broadband level movement may occur once a year during the CCS process, if certain conditions are met. An employee's contribution is a reflection of his/her OCS, which is derived from a comparison of the employee's contribution to each of the factors and descriptors. Because the descriptors are written at progressively higher levels of work and are the same descriptors used in the classification process, higher scores reflect that an employee's contribution is equivalent to the level associated with the score they are awarded. An employee's broadband level may be increased when an employee consistently contributes at a level consistent with the expectations for a higher broadband level than the one to which the employee is currently assigned, such as through increased expertise and by performing expanded duties and responsibilities commensurate with the higher broadband level factor and descriptors. If an employee's contributions impact and broaden the scope, nature, intent, and expectations of the position and are reflective of higher level factors and descriptors, the classification of the position is updated accordingly. This form of movement through broadband levels is referred to as a seamless broadband movement and can only happen within the same career path; employees cannot cross over career paths through this process. The criteria is similar to that used in an accretion of duties scenario and must be met for an employee to move seamlessly to a higher broadband level. For seamless broadband movement to occur: (1) The employee's current position must be absorbed into a reclassified position, while the employee continues to perform the same basic duties and responsibilities (although at the higher level); and (2) the employee's current position must be reclassified to a higher broadband level as a result of additional, higher-level duties and responsibilities. It may take a number of years for contribution levels to increase to the extent a seamless broadband movement is warranted, and not all employees achieve the increased contribution levels required for such moves.

This simplified classification and broadbanding structure allows management to assign duties consistent with the broadband level of a position without the necessity to process a personnel action and provides managers authority to move employees between positions within their current broadband level, at any time during the year. However, management also has the option to fill vacancies throughout the year using various staffing alternatives, to include details, reassignments, or competitive selection procedures (as applicable and/or required) for competitive promotions or temporary promotions (typically used for filling supervisory positions). Employees may be considered for vacancies at higher broadband level positions consistent with the JWAC-DP competitive selection procedures.

Any resulting changes in broadband levels that occur through the CCS process are not accompanied by pay increases normally associated with formal promotion actions, but, rather, are processed and documented with a pay adjustment action to include appropriate changes/remarks (e.g., change in title (if appropriate), change in broadband level, and classification of a new SDE). The terms “promotion” and “demotion” are not used in connection with the CCS process.

The broadbanding structure creates an overlap between adjacent broadband levels that facilitates broadband movement. For instance, the minimum basic pay for a broadband level I is that basic pay from the SPL corresponding to a CCS score of 0.75. And the maximum basic pay for broadband level I is that basic pay from the SPL corresponding to a CCS score of 2.25. The minimum basic pay for broadband level II is that basic pay from the SPL corresponding to a CCS score of 1.75. And the maximum basic pay for broadband level II is that basic pay from the SPL corresponding to a CCS score of 3.25. Likewise, the minimum basic pay for broadband level III is that basic pay from the SPL corresponding to a CCS score of 2.75, and so on for the different broadband levels. This structure provides a basic pay overlap between broadband levels that is consistent with, and similar to, basic pay overlaps in the GS schedule.

9. Voluntary Pay Reduction and Pay Raise Declination

Under CCS, an employee may voluntarily request a pay reduction or a voluntary declination of a pay raise which would effectively place an overcompensated employee's pay closer to the SPL. Since an objective of the CCS is to properly compensate employees for their contribution to the JWAC, granting such requests is consistent with this goal. Under normal circumstances, all employees should be encouraged to advance their careers through increasing contribution rather than being undercompensated at a fixed level of contribution.

To handle these special circumstances, employees must submit a request for voluntary pay reduction or pay raise declination during the 30-day period immediately following the annual payout and document the reasons for the request. The pay pool manager may consider voluntary pay reductions at other times throughout the year, as documented in internal operating procedures. Management must properly document all decisions to approve or disapprove such requests. This type of basic pay change is not considered to be an adverse personnel action.

F. Dealing With Inadequate Contributions

The CCS is a contribution-based assessment system that goes beyond a performance-based rating system. Contribution is measured against factors, with each factor having descriptors that describe increasing levels of contribution corresponding to the broadband level. Employees are plotted against the SPL based on their score and current basic pay, which determines the amount of over-compensation or under compensation the employees are receiving. When an employee's contribution plots in the area above the upper rail of the SPL (Section III.E.3.), the employee is overcompensated for his/her level of contribution and is considered to be in the Automatic Attention Zone (AAZ).

This section addresses reduction in pay or removal of JWAC-DP employees based solely on inadequate contribution, as determined by the amount an employee is overcompensated. The following procedures are similar to and replace those established in 5 CFR part 432 pertaining to performance-based reduction in grade and removal actions. Adverse action procedures under 5 CFR part 752 remain unchanged. The immediate supervisor has two options when an employee's contribution plots in the AAZ. The first option is document the employee's inadequate contributions in a memorandum for record. In this memorandum, the supervisor should state, in writing, the specifics regarding where the employee failed to contribute at an adequate level and provide a rationale for not taking a formal action. Examples where this might be used are when an employee's contribution plots just above the upper rail of the SPL, or extenuating circumstances exist that may have decreased the employee's overall CCS score during the rating period and are expected to be temporary in nature. A copy of this memorandum is provided to the employee and to higher levels of management.

The second option is to take a formal action by placing the employee on a Contribution Improvement Plan (CIP), providing the employee an opportunity to improve. The CIP must inform the employee, in writing, that unless the employee's contribution increases and is sustained at the expected contribution level, the employee may be reduced in pay or removed. The supervisor will afford the employee a reasonable improvement opportunity period, generally 30 days, to demonstrate increased contribution commensurate with the duties and responsibilities of the employee's position. As part of an employee's opportunity to demonstrate increased contribution, management will offer appropriate assistance to the employee.

If an employee has been placed on a CIP and afforded a reasonable opportunity to demonstrate increased contribution, yet fails to do so, management has sole and exclusive discretion to initiate reduction in pay or removal for that employee. If the employee's contribution increases to a higher level during the opportunity period and is again determined to deteriorate in any area within two years from the beginning of the improvement opportunity period, management has sole and exclusive discretion to initiate a reduction in pay or removal with no additional opportunity to improve. If an employee has contributed appropriately for two years (or longer) from the beginning of an improvement opportunity period and the employee's overall contribution once again declines, management will afford the employee an additional improvement opportunity period to demonstrate increased contribution before determining whether or not to propose a reduction in pay or removal.

An employee is entitled to at least a 30-day advance notice of a proposed reduction in pay or removal action. This advanced notice will identify specific instances of the employee's inadequate contribution. The employee will be afforded a reasonable time (as stated in 5 U.S.C. 7513(b)(2)), but not less than seven days, to answer the notice of proposed action, which may be done orally and/or in writing, at the employee's discretion.

A decision to reduce pay or remove an employee for inadequate contribution may only be based on those instances of inadequate contribution that occurred during the two-year period immediately preceding the date of the notice of proposed action is issued. Management will issue a written notice of its decision on reduction in pay or removal to the employee at or before the time the action will be effective. This notice will specify the instances of inadequate contribution by the employee on which the action is based and will inform the employee of any applicable appeal or grievance rights as specified in 5 CFR 432.106.

Management will preserve all relevant documentation concerning a reduction in pay or removal based on inadequate contribution and make the relevant documentation available for review by the affected employee and/or the employee's designated representative. At a minimum, the documentation will consist of a copy of the notice of proposed action; the employee's written answer or a written summary of the employee's oral reply; and the written notice of decision to take the action, including the reasons therefore, along with any supporting material including documentation regarding the opportunity afforded the employee to demonstrate increased contribution.

G. Voluntary Emeritus Corps

The JWAC Commander has the authority to offer former Federal employees who have retired or separated from the Federal service, voluntary assignments at JWAC. Voluntary Emeritus Corps assignments are not considered “employment” by the Federal government (except as indicated below). Thus, such assignments do not affect an employee's entitlement to buyouts or severance payments based on an earlier separation from Federal service. The Volunteer Emeritus Corps will ensure continued quality research while reducing the overall salary line by allowing higher paid individuals to accept retirement incentives with the opportunity to retain a presence in the scientific community. This authority will be of most benefit during manpower reductions as senior employees could accept retirement and return to provide valuable on-the-job training or mentoring to less experienced employees. Volunteer service will not be used to replace any employee, or interfere with career opportunities of employees. The Volunteer Emeritus Corps may not be used to replace or substitute for work performed by civilian employees occupying regular positions required to perform the JWAC's mission.

To be accepted into the Volunteer Emeritus Corps, a volunteer must be recommended by a JWAC manager to the JWAC Commander. Everyone who applies is not entitled to a volunteer assignment. The JWAC Commander will document the decision process for each candidate and retain selection and non-selection documentation for the duration of the assignment or two years, whichever is longer.

To ensure success and encourage participation, the volunteer's federal retirement pay (whether military or civilian) will not be affected while serving in a volunteer capacity. Retired or separated federal employees may accept an emeritus position without a break or mandatory waiting period.

Volunteers will not be permitted to monitor contracts on behalf of the government or to participate on any contracts or solicitations where a conflict of interest exists. The same rules that currently apply to source selection members will apply to volunteers.

An agreement will be established between the volunteer, the JWAC Commander, and the JWAC/J1. The agreement will be reviewed by the USSTRATCOM Legal Office. The agreement must be finalized before the assumption of duties and will include:

a. A statement that the service provided is gratuitous, that the volunteer assignment does not constitute an appointment in the civil service and is without compensation or other benefits except as provided for in the agreement itself, and that, except as provided in the agreement regarding work-related injury compensation, any and all claims against the Government (stemming from or in connection with the volunteer assignment) are waived by the volunteer;

b. A statement that the volunteer will be considered a federal employee for the purpose of:

(1) 18 U.S.C. 201, 203, 205, 207, 208, 209, 603, 606, 607, 643, 654, 1905, and 1913;

(2) 31 U.S.C. 1343, 1344, and 1349(b);

(3) 5 U.S.C. chapters 73 and 81;

(4) The Ethics in Government Act of 1978;

(5) 41 U.S.C. chapter 21;

(6) 28 U.S.C. chapter 171 (tort claims procedure), and any other Federal tort liability statute;

(7) 5 U.S.C. 552a (records maintained on individuals); and

c. The Volunteer Emeritus/Corps participant's work schedule;

d. The length of agreement (defined by length of project or time defined by weeks, months, or years);

e. The support to be provided by the JWAC (travel, administrative, office space, supplies);

f. The Volunteer Emeritus Corps participant's duties,

g. A provision that states no additional time will be added to a participant's service credit for such purposes as retirement, severance pay, and leave as a result of being a participant in the Volunteer Emeritus Corps,

h. A provision allowing either party to void the agreement with 10 working days written notice;

i. The level of security access required (any security clearance required by the assignment will be managed by the JWAC while the participant is a member of the Volunteer Emeritus Corps);

j. A provision that any written products prepared for publication that are related to Volunteer Emeritus Corps participation will be submitted to the JWAC Commander for review and must be approved prior to publication;

k. A statement that the Volunteer Emeritus Corps participant accepts accountability for loss or damage to Government property occasioned by the Volunteer Emeritus Corps participant's negligence or willful action;

1. A statement that the activities of the Volunteer Emeritus Corps participant on the premises will conform to the JWAC's regulations and requirements;

m. A statement that the Volunteer Emeritus Corps participant will not improperly use or disclose any non-public information, to include any pre-decisional or draft deliberative information related to DoD programming, budgeting, resourcing, acquisition, procurement or other matter, for the benefit or advantage of the Volunteer Emeritus Corps participant or any non-Federal entities. Volunteer Emeritus Corps participants will handle all non-public information in a manner that reduces the possibility of improper disclosure;

n. A statement that the Volunteer Emeritus Corps participant agrees to disclose any inventions made in the course of work performed at the JWAC. The JWAC Commander will have the option to obtain title to any such invention on behalf of the U.S. Government. Should the JWAC Commander elect not to take title, the JWAC will retain a non-exclusive, irrevocable, paid up, royalty-free license to practice or have practiced the invention worldwide on behalf of the U.S. Government;

o. A statement that the Volunteer Emeritus Corps participant must complete either a Confidential or Public Financial Disclosure Report, whichever applies, and ethics training in accordance with office of Government Ethics regulations prior to implementation of the agreement; and

p. A statement that the Volunteer Emeritus Corps participant must receive post-government employment advice from a DoD ethics counselor at the conclusion of program participation. Volunteer Emeritus Program participants are deemed Federal employees for purposes of post-government employment restrictions.

H. Employee Development

1. Training for Degrees: Degree training is an essential component of an organization that requires continuous acquisition of advanced and specialized knowledge. Degree training in the academic environment of laboratories is also a critical tool for recruiting and retaining employees with critical skills. Constraints under current law and regulation limit degree payment to shortage occupations. In addition, current government-wide regulations authorize payment for degrees based only on recruitment or retention needs. Degree payment is currently not permitted for non-shortage occupations involving critical skills.

Under the JWAC-DP, JWAC will expand the authority to provide degree training for purposes of meeting critical skill requirements, to ensure continuous acquisition of advanced and specialized knowledge essential to the organization, and to recruit and retain personnel critical to the present and future requirements of the organization. It is expected that the degree payment authority will be used primarily for attainment of advanced degrees.

2. Sabbaticals: JWAC will have the authority to grant paid sabbaticals to career employees to permit them to engage in study or uncompensated work experience that will contribute to their development and effectiveness. Each sabbatical should benefit JWAC as well as increase the employee's individual effectiveness. Examples are as follows: Advanced academic teaching, study, or research; self-directed (independent) or guided study; and on-the-job work experience with a public, private, or nonprofit organization. Each recipient of a sabbatical must sign a continued service agreement and agree to serve a period equal to at least three times the length of the sabbatical.

IV. JWAC-DP Training

The key to the success or failure of the JWAC-DP will be the training provided for all involved. This training will not only provide the necessary knowledge and skills to carry out the proposed changes, but will also lead to program commitment on the part of participants.

Training before the beginning of implementation, and throughout the JWAC-DP, will be provided to supervisors, employees, and the administrative staff responsible for assisting managers in effecting the changeover and operating the new system. As a start the following subjects will be covered:

• An overview of the JWAC-DP personnel system.

• How employees are converted into and out of the system.

• Broadbanding.

• The Contribution-based Compensation System.

V. Conversion

A. Conversion to the Demonstration Project

Initial entry into the JWAC-DP for covered employees is accomplished through a full employee protection approach that ensures each employee an initial place in the appropriate broadband level without loss of pay. Employees are converted into the career path and broadband level which corresponds to their permanent GS grade and occupational series of their current appointment (temporary promotions are not retained), unless there are extenuating circumstances which require individual attention, such as special pay rates or pay retention. Adverse action provisions do not apply to the conversion process as there is no change in total adjusted pay.

Under the GS pay structure, successful employees automatically progress, from step 1 to 10, within grade, in periodic increments. In the JWAC-DP, basic pay progression within and through the broadband levels depends on contribution to the mission, and there are no automatic within-grade increases (WGIs). Rules governing WGIs under the current DAF performance plan will continue in effect until the implementation date. Adjustments to the employees' basic pay for WGI equity will be computed effective the date of conversion to the JWAC-DP. WGI equity is acknowledged by increasing basic pay rates by a prorated share based upon the number of days the employee has performed at a successful level for purposes of eligibility for the next higher step under the GS system. Employees at step 10 on the date of conversion are not eligible for WGI equity adjustments since they are already at the top step of the corresponding GS pay grade.

All employees are eligible for future locality pay increases for the geographical areas of their official duty station. Special salary rates are not applicable to JWAC-DP employees. Employees on special salary rates at the time of conversion receive a new basic pay rate which is computed by dividing their highest adjusted basic pay (i.e., special pay rate or, if higher, the locality rate) by one plus the locality pay percentage for their area. The new basic pay rate is then multiplied by the locality pay percentage and the result is added to the new basic pay rate to obtain the adjusted basic pay, which is equal to the adjusted basic pay prior to conversion.

Grade and pay retention entitlements are eliminated. At the time of conversion, an employee on grade retention will be converted to the career path and broadband level based on the employee's assigned position, not the retained grade. The employee's basic pay and adjusted basic pay while on grade retention status will be used in setting appropriate pay upon conversion to the JWAC-DP and in determining the amount of any WGI equity adjustment. An employee's adjusted basic pay will not be reduced upon conversion.

B. Conversion to Another Personnel System

1. Demonstration Project Termination

a. In the event the JWAC-DP ends, a conversion back to the former (or another applicable) Federal Civil Service system may be required. The grade of employees' positions in the new system will be based upon the position classification criteria of the gaining system. Employees, when converted to positions classified under the new system, may be eligible for pay retention under 5 CFR part 536, if applicable.

b. However, an employee will not be provided a lower grade than the grade held by the employee immediately preceding conversion, lateral reassignment, or lateral transfer into the JWAC-DP, unless since that time the employee has undergone either a reduction in broadband level or a reduction in basic pay within the same broadband due to unacceptable contribution.

2. Conversion or Movement from a Project Position to a General Schedule Position:

If a demonstration project employee is moving to a GS position not under the demonstration project, or if the project ends and all project employees must be converted back to the GS system, the following procedures will be used to convert the employee's broadband level to a GS-equivalent grade and the employee's JWAC-DP basic pay to the GS-equivalent rate of pay for pay setting purposes. The equivalent GS grade and GS rate of pay must be determined before movement or conversion out of the JWAC-DP and any accompanying geographic movement, promotion, or other simultaneous action.

An employee in a broadband level corresponding to a single GS grade is placed into that grade as the GS-equivalent grade. An employee in a broadband corresponding to two or more grades is determined to have a GS equivalent grade corresponding to one of those grades according to the following rules:

The employee's adjusted basic pay under the JWAC-DP (including any locality payment) is compared with step 4 rates in the highest applicable GS rate range. For this purpose, a GS rate range includes a rate in:

i. The GS base schedule;

ii. the locality rate schedule for the locality pay area in which the position is located; or

iii. the appropriate special rate schedule for the employee's occupational series, as applicable.

If the series is a two-grade interval series, only odd-numbered grades are considered below GS-11.

3. For lateral reassignments, the equivalent GS grade and rate will become the employee's converted GS grade and rate after leaving the JWAC-DP (before any other action).

For transfers, promotions, and other actions, the converted GS grade and rate will be used in applying any GS pay administration rules applicable in connection with the employee's movement out of the JWAC-DP (e.g., promotion rules, highest previous rate rules, and/or pay retention rules), as if the GS converted grade and rate were actually in effect immediately before the employee left the JWAC-DP.

VI. Project Duration and Changes

Pub. L. 103-337 removed the mandatory expiration date for STRL Demonstration Projects, such as the JWAC-DP. The JWAC-DP evaluation plan adequately addresses how each flexibility is comprehensively evaluated.

Many aspects of a Demonstration Project are experimental. Minor modifications may be made from time to time as experience is gained, results are analyzed, and conclusions are reached on how the system is working.

VII. Evaluation Plan

A. Overview

Chapter 47 of 5 U.S.C. requires that an evaluation be performed to measure the effectiveness of the demonstration project, and its impact on improving public management. A comprehensive evaluation plan for the entire STRL demonstration program, originally covering 24 DoD laboratories, was developed by a joint OPM/DoD Evaluation Committee in 1995. This plan was submitted to the Office of Defense Research & Engineering and was subsequently approved. The main purpose of the evaluation is to determine whether the waivers granted result in a more effective personnel system and improvements in ultimate outcomes (i.e., organizational effectiveness, mission accomplishment, and customer satisfaction). That plan, while useful, is dated and does not fully afford the laboratories the ability to evaluate all aspects of the demonstration project in a way that fully facilitates assessment and effective modification based on actionable data. Therefore, in conducting the evaluation JWAC will ensure USD(R&E) evaluation requirements are met in addition to applying knowledge gained from other DoD laboratories and their evaluations to ensure a timely, useful evaluation of the demonstration project.

B. Evaluation Model

An evaluation model for the JWAC-DP will identify elements critical to an evaluation of the effectiveness of the flexibilities. However, the main focus of the evaluation will be on intermediate outcomes, i.e., the results of specific personnel system changes which are expected to improve human resources management. The ultimate outcomes are defined as improved organizational effectiveness, mission accomplishment, and JWAC customer satisfaction.

C. Method of Data Collection

Data from a variety of different sources will be used in the evaluation. Information from existing management information systems supplemented with perceptual survey data from employees will be used to assess variables related to effectiveness. Multiple methods provide more than one perspective on how the JWAC-DP is working. Information gathered through one method will be used to validate information gathered through another. Confidence in the findings will increase as they are substantiated by the different collection methods. The following types of qualitative and/or quantitative data may be collected as part of the evaluation: (1) Workforce data; (2) personnel office data; (3) employee attitudes and feedback using surveys, structured interviews, and focus groups; (4) local activity histories; and/or, (5) core measures of laboratory effectiveness.

VII. Demonstration Project Costs

Costs associated with the development of the JWAC-DP system include software automation, training, and project evaluation. All funding will be provided through JWAC's budget. The timing of the expenditures depends on the implementation schedule. The projected annual expenses for each area is summarized in Table 2.

IX. Required Waivers to Law and Regulation

Pub. L. 103-337 gave the DoD the authority to experiment with several personnel management innovations. In addition to the authorities granted by the law, the following are the waivers of law and regulation that will be necessary for implementation of the JWAC-DP. In due course, additional laws and regulations may be identified for waiver requests.

The following waivers and adaptations of certain 5 U.S.C. provisions are required only to the extent that these statutory provisions limit or are inconsistent with the actions contemplated under this demonstration project. Nothing in this plan is intended to preclude the JWAC-DP from adopting or incorporating any law or regulation enacted, adopted, or amended after the effective date of this demonstration project.

A. Title 5, United States Code

1. Chapter 5, section 522a: Records. Waived to the extent required to clarify that volunteers under the Voluntary Emeritus Corps are considered employees of the Federal government for purposes of this section.

2. Chapter 29, section 2903: Oath; authority to administer. Waived insofar as the JWAC Commander may administer the oath of office.

3. Chapter 31, section 3104: Employment of Specially Qualified Scientific and Professional Personnel. Waived to allow SSTM authority as described in this FRN and 79 FR 43722.

4. Chapter 31, section 3132: The Senior Executive Service; Definitions and exclusions. Waived to allow SSTM authority as described in this FRN and 79 FR 43722.

5. Chapter 33, Subchapter 1, Examination, Certification, and Appointment. Waived to the extent necessary to utilize the authorities authorized in 82 FR 43339.

6. Chapter 33, section 3308: Competitive Service; Examinations; Educational Requirements Prohibited. This section is waived with respect to the scholastic achievement appointment authority.

7. Chapter 33, section 3317(a), Competitive Service; certification from registers. Waived insofar as “rule of three” is eliminated.

8. Chapter 33, section 3318(a), Competitive Service; selection from certificates. Waived insofar as “rule of three” is eliminated under the JWAC-DP.

9. Chapter 33, section 3321: Competitive Service; Probationary Period. This section waived only to the extent necessary to replace “grade” with “broadband level.”

10. Chapter 33, section 3324 and section 3325: Appointments to Positions Classified Above GS-15. Waived in entirety to allow SSTM authority as described in this FRN and 79 FR 43722.

11. Chapter 33, section 3327: Civil service employment information. Waived to the extent necessary to allow public notice other than USAJobs for the Distinguished Scholastic Achievement Authority described in this FRN.

12. Chapter 33, section 3330: Government-wide list of vacant positions. Waived to the extent necessary to allow public notice other than USAJobs for the Distinguished Scholastic Achievement Authority described in this FRN.

13. Chapter 33, section 3341: Details. This waiver applies to the extent necessary to waive the time limits for details.

14. Chapter 35, section 3522: Agency VSIP Plans approval. Waived to remove the requirement to submit a plan to OPM prior to obligating any resources for voluntary separation incentive payments.

15. Chapter 35, section 3523(b)(3): Related to voluntary separation incentive payments. Waived to the extent necessary to utilize the authorities authorized in 82 FR 43339.

16. Chapter 41, section 4107: Pay for Degrees. Waived to the extent necessary to allow degree training under the Developmental Opportunities described in this FRN.

17. Chapter 41, section 4108. Employee Agreements; Service after Training. Waived to the extent necessary to (1) provide that the employee's service obligation is to JWAC for the period of the required service; (2) permit the JWAC Commander to waive in whole or in part a right of recovery; and (3) require an employee in the student educational employment program who has received tuition assistance to sign a service agreement up to three times the length of the training.

18. Chapter 43, sections 4301-4305: Related to performance appraisal. These sections are waived to the extent necessary to allow provisions of the Contribution-based Compensation System as described in this FRN.

19. Chapter 51, sections 5101-5112: Related to classification standards and grading. Waived to the extent that white collar employees will be covered by the broadbanding system and to the extent necessary to allow classification provisions described in this FRN.

20. Chapter 53, sections 5301-5307: Related to pay comparability system and GS pay rates. Waived to the extent necessary to allow JWAC-DP employees, including SSTM employees, to be treated as GS employees, and to allow basic rates of pay under the demonstration project to be treated as scheduled rates of pay. SSTM pay will not exceed EX-IV and locality adjusted SSTM rates will not exceed EX III.

21. Chapter 53, sections 5331-5336: General Schedule pay rates. These waivers apply to the extent necessary to: (1) Allow JWAC-DP employees to be treated as GS employees; (2) allow the provisions of this FRN pertaining to setting rates of pay; and (3) waive sections 5335 and 5336 in their entirety.

22. Chapter 53, sections 5361-5366: Grade and pay retention. Waived to the extent necessary to allow for the elimination of pay and grade retention provisions as described in this FRN.

23. Chapter 55, section 5542(a)(1)-(2): Overtime rates; computation. These sections are adapted only to the extent necessary to provide that the GS-10 minimum special rate (if any) for the special rate category to which a project employee belongs is deemed to be the “applicable special rate” in applying the pay cap provisions in 5 U.S.C. 5542.

24. Chapter 55, section 5545(d): Hazardous duty differential. This waiver applies only to the extent necessary to allow JWAC-DP employees to be treated as GS employees.

25. Chapter 57, section 5753: Recruitment and Relocation Bonuses. Waived to the extent necessary to allow JWAC-DP employees, including SSTM employees, to be treated as GS employees.

26. Chapter 57, section 5754: Relocation Bonuses. Waived to the extent necessary to allow provisions of the retention counteroffer and incentives as described in this FRN.

27. Chapter 57, section 5755: Supervisory Differentials. Waived to the extent necessary to allow SSTM supervisory pay differential provisions as described in 79 FR 43722.

28. Chapter 75, sections 7501(1), 7511(a)(1)(A)(ii), and 7511(a)(1)(C)(ii): Adverse Actions—Definitions. Waived to the extent necessary to: (1) Allow for up to a three-year probationary period, (2) remove the reference to one year of current continuous service, and (3) permit termination during the extended probationary period without using adverse action procedures for those employees serving a probationary period under an initial appointment except for those with veterans' preference.

29. Chapter 75, section 7512(3): Adverse actions. This waiver applies only to the extent necessary to replace “grade” with “broadband level” and to exclude reductions in broadband level not accompanied by a reduction in pay.

30. Chapter 75, section 7512(4): Adverse actions. This waiver applies only to the extent necessary to provide that adverse action provisions do not apply to conversions from GS special rates to JWAC-DP pay, as long as total pay is not reduced.

31. Chapter 99, section 9902(f): Related to voluntary separation incentive payments. Waived to the extent necessary to utilize the authorities authorized in 82 FR 43339.

B. Title 5, Code of Federal Regulations

1. Part 300-330, Employment (General) other than Subpart G of 300. Waived to the extent necessary to allow provisions of the direct hire authorities as described in 79 FR 43722 and 82 FR 29280.

2. Part 300.601-300.605: Time-in-Grade requirements. Waived to eliminate time-in-grade restrictions.

3. Part 315.801-315.802: Probationary Period. Waived to allow the extended probationary period.

4. Part 315.803(b): Agency Action during probationary period (general). Waived to allow for termination during an extended probationary period without using adverse action procedures under subpart D of part 752, 5 U.S.C.

5. Part 315, section 315.901 and 315.907: Statutory requirements. This waiver applies only to the extent necessary to replace “grade” with “broadband level.”

6. Part 316, sections 316.301, 316.303, and 316.304: Term Employment. Waived to the extent necessary to allow Flexible Length and Renewable Term Technical Appointments as described in this FRN and in 82 FR 43339.

7. Part 330.103-330.105: Related to filling vacancies. Waived to the extent necessary to allow the STRL to publish competitive announcements outside of USAJobs.

8. Part 332 and 335: Related to competitive examination and agency promotion programs. Waived to the extent necessary to (1) allow employees appointed on a Flexible Length and Renewable Term Technical Appointment to apply for federal positions as status candidates; (2) allow no rating and ranking when there are 15 or fewer qualified applicants and no preference eligible candidates; (3) allow the hiring and appointment authorities as described in this FRN; (4) eliminate the “rule of three” requirement; and (5) to extend the length of details and temporary promotions without requiring competitive procedures as described in this FRN.

9. Part 337.101(a): Rating applicants. Waived to the extent necessary to allow referral without rating when there are 15 or fewer qualified candidates and no qualified preference eligible candidates.

10. Part 338.301: Competitive service appointment. Waived to allow for Distinguished Scholastic Achievement Authority grade point average requirements as described in this FRN.

11. Part 359.705: Removal from the Executive Service, Pay. Waived to allow demonstration project rules governing pay retention to apply to a former SES employee placed in an SSTM or broadband level IV position.

12. Part 410, section 410.308(a-f): Training to obtain an academic degree. Waived to the extent necessary to allow provisions described in this FRN.

13. Part 410, section 309: Agreements to continue in Service. This waiver applies to that portion that pertains to the authority of the head of the agency to determine continued service requirements, to waive repayment of such requirements, and to the extent that the service obligation is to JWAC.

14. Part 430, Subpart B: Performance Appraisal for General Schedule, Prevailing Rate, and Certain Other Employees. Waived to the extent necessary to apply the Contribution-based Compensation System described in this FRN.

15. Part 432.102—432.105: Related to performance based actions. (1) Modified to the extent that an employee may be removed, reduced in broadband level with a reduction in pay, reduced in pay without a reduction in broadband level and reduced in broadband level without a reduction in pay based on unacceptable performance; (2) modified to delete reference to critical element; (3) waived to the extent necessary to replace “grade” with “broadband”; (4) waived to exclude reductions in broadband level not accompanied by a reduction in pay; (5) allow provisions of CCS and addressing inadequate contribution as described in this FRN; and (6) waive “If an employee has performed acceptably for 1 year” to allow for “within two years” from the beginning of an opportunity period.

16. Part 511 Subpart A, B, and F: Classification Under the General Schedule. Waived to the extent necessary to allow classification provisions outlined in this FRN, to include the list of issues that are neither appealable nor reviewable, the assignment of series under the JWAC-DP plan to appropriate career paths; and to allow informal appeals to be decided by the JWAC Commander.

17. Part 530, Subpart C: Special salary rates. Waived in its entirety.

18. Part 531, Subparts B, D, and E: Determining rate of basic pay, within-grade increases, and quality step increases. Waived in its entirety.

19. Part 531, Subpart F: Locality pay. This waiver applies only to the extent necessary to allow JWAC-DP employees, including SSTMs, to be treated as GS employees, and basic rates of pay under the demonstration project to be treated as scheduled annual rates of pay. This waiver does not apply to ST employees who continue to be covered by these provisions, as appropriate.

20. Part 536: Grade and pay retention. Waived to the extent necessary to allow the maintained pay provisions described in this FRN and to allow personnel in SSTM positions to receive maintained pay as described in this FRN.

21. Part 550.703: Severance Pay. This waiver applies only to the extent necessary to modify the definition of “reasonable offer” by replacing “two grades or pay levels” with “one band level” and “grade or pay level” with “band level.”

22. Part 575, subparts A, B, and C: Recruitment Incentives, Relocation Incentives, and Retention Incentives. Waived to the extent necessary to allow employees and positions under the JWAC-DP covered by the broadbanding system to be treated as employees and positions under the GS system.

23. Part 752, sections 752.201 and 752.401: Principal statutory requirements and coverage. Waived to the extent necessary to: (1) Allow extended probationary periods and to permit termination during the extended probationary period without using adverse action procedures for those individuals serving a probationary period under an initial appointment; (2) replace “grade” with “broadband level”; and (3) provide that adverse action provisions do not apply to conversions from GS special rates to JWAC-DP pay, so long as total pay is not reduced.

BILLING CODE 5001-06-P

Dated: November 15, 2019.
Aaron T. Siegel,
Alternate OSD Federal Register Liaison Officer, Department of Defense.

[FR Doc. 2019-25199 Filed 11-20-19; 8:45 am]

BILLING CODE 5001-06-C